ENVIRONMENTAL PROTECTION AGENCY

[FRL-9170-2]

Science Advisory Board Staff Office; Notification of a Public Meeting of the Science Advisory Board Ecological Processes and Effects Committee

AGENCY: Environmental Protection Agency (EPA).

ACTION: Notice.

SUMMARY: The Environmental Protection Agency (EPA or Agency) Science Advisory Board (SAB) Staff Office announces a public meeting of the SAB Ecological Processes and Effects Committee (EPEC). The SAB EPEC, augmented with other experts, will provide advice on technologies and systems to minimize the impacts of invasive species in vessel ballast water discharge.

DATES: The meeting dates are Thursday, July 29, 2010 from 9 a.m. to 5 p.m. (Eastern Time) and Friday, July 30, 2010 from 8:30 a.m. to 2:30 p.m. (Eastern Time).

ADDRESSES: The meeting will be held at the St. Regis Hotel, 923 16th Street, NW., Washington, DC 20006.

FOR FURTHER INFORMATION CONTACT: Members of the public who wish to obtain further information about this meeting must contact Dr. Thomas Armitage, Designated Federal Officer (DFO). Dr. Armitage may be contacted at the EPA Science Advisory Board (1400F), U.S. Environmental Protection Agency, 1200 Pennsylvania Avenue, NW., Washington, DC 20460; or via telephone/voice mail; (202) 564-2155; fax (202) 565-2098; or e-mail at armitage.thomas@epa.gov.

SUPPLEMENTARY INFORMATION: Pursuant to the Federal Advisory Committee Act, Public Law 92-463, notice is hereby given that the SAB EPEC augmented with other experts will hold a public meeting to provide advice on technologies and systems to minimize the impacts of invasive species in vessel ballast water discharge. The SAB was established by 42 U.S.C. 4365 to provide independent scientific and technical advice to the Administrator on the technical basis for Agency positions and regulations. The SAB is a Federal Advisory Committee chartered under the Federal Advisory Committee Act (FACA), as amended, 5 U.S.C., App. 2. The SAB will comply with the provisions of FACA and all appropriate SAB Staff Office procedural policies.

Background: Vessel ballast water discharges are a major source of nonidigenous species introductions to marine, estuarine, and freshwater ecosystems of the United States. Ballast water discharges are regulated by EPA under authority of the Clean Water Act (CWA) and the U.S. Coast Guard under authority of the Nonindigenous Aquatic Nuisance Prevention and Control Act, as amended (NANPCA). NANPCA generally requires vessels equipped with ballast water tanks and bound for ports or places in the United States after operating beyond the U.S. Exclusive Economic Zone to conduct a mid-ocean ballast water exchange, retain their ballast water onboard, or use an alternative environmentally sound ballast water management method approved by the U.S. Coast Guard. Under the authority of the CWA, EPA's Vessel General Permit, in addition to the mid-ocean exchange, requires the flushing and exchange of ballast water by vessels in Pacific near-shore voyages and saltwater flushing of ballast water tanks that are empty or contain only un-pumpable residual ballast water.

While useful in reducing the presence of potentially invasive organisms in ballast water, ballast water exchange and saltwater flushing can have variable effectiveness and may not always be feasible due to vessel safety concerns. On August 28, 2009, the U.S. Coast Guard proposed establishing standards for concentrations of living organisms that can be discharged in vessel ballast water (74 FR 44632), and some States have established standards of their own. In addition, a number of studies and reports have been published on the status and efficacy of ballast water treatment technologies, and data collected on the efficacy of certain systems is available.

EPA's Office of Water (OW) has requested SAB review of technical documents and available data on the efficacy of ballast water treatment systems and advice on improving the performance of such systems. In response, the SAB Staff Office requested public nomination of experts and formed an augmented SAB Ecological Processes and Effects Committee [Federal Register Notice dated February 25, 2010 (75 FR 8700-8701)]. The augmented EPEC will provide advice on technologies and systems to minimize the impacts of invasive species in vessel ballast water discharge. The purpose of the meeting on July 29-30, 2010 is to receive background briefings and formulate preliminary comments on this subject.

Availability of Meeting Materials: The meeting agenda, SAB Committee roster, charge to the Committee, and other meeting material will be posted on the SAB Web site at https://www.epa.gov/sab in advance of the meeting. Inquiries regarding the technical information for this advisory should be directed to Dr. Ryan Albert of EPA's Office of Water at albert.ryan@epa.gov or (202) 564-0763 or Mr. Marcus Zobrist of EPA's Office of Water at zobrist.marcus@epa.gov or (202) 564-8311.

Procedures for Providing Public Input: Public comment for consideration by EPA's Federal advisory committees and panels has a different purpose from public comment provided to EPA program offices. Therefore, the process for submitting comments to a Federal advisory committee is different from the process used to submit comments to an EPA program office.

Federal advisory committees and panels, including scientific advisory committees, provide independent advice to EPA. Members of the public can submit comments for a Federal advisory committee to consider as it develops advice for EPA. They should send their comments directly to the Designated Federal Officer for the relevant advisory committee. Oral Statements: In general, individuals or groups requesting an oral presentation at a public meeting will be limited to five minutes per speaker. Interested parties should contact Dr. Armitage, DFO, in writing (preferably via e-mail) at the contact information noted above by July 22, 2010 to be placed on a list of public speakers for the meeting. Written Statements: Written statements should be received in the SAB Staff Office no later than July 22, 2010 so that the information may be made available to the SAB Committee members for their consideration. Written statements should be supplied to the DFO in the following formats: One hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Armitage at the phone number or e-mail address noted above, preferably at least ten days prior to the meeting to give EPA as much time as possible to process your request.

Dated: June 24, 2010.
Vanessa T. Vu,
Director, EPA Science Advisory Board Staff Office.

[FR Doc. 2010-15896 Filed 6-29-10; 8:45 am]

BILLING CODE 6560-50-P